DEPARTMENT OF THE INTERIOR

Bureau of Land Management

[19X LLWO230 L11100000.PN0000 LXSGPL000000]

Notice of Availability of Record of Decision and Approved Resource Management Plan Amendment for Greater Sage-Grouse Conservation, Nevada and Northeastern California

AGENCY: Bureau of Land Management, Interior.

ACTION: Notice of availability.

SUMMARY: The Bureau of Land Management (BLM) announces the availability of the Record of Decision (ROD) for the Approved Resource Management Plan (RMP) Amendment for Greater Sage-Grouse Conservation for the Nevada and Northeastern California Greater Sage-Grouse Sub-Region. The Nevada and California State Directors signed the ROD on March 15, 2019, which constitutes the final decision of the BLM and makes the Approved RMP Amendment effective immediately.

ADDRESSES: The ROD is available on the BLM ePlanning project website at https://goo.gl/uz89cT. Click the Documents and Reports link on the left side of the screen to find the electronic version of these materials. Hard copies of the ROD are also available for public inspection at the BLM Nevada State Office, 1340 Financial Boulevard, Reno, Nevada 89502, and the BLM California State Office, 2800 Cottage Way #W1623, Sacramento, California 95825.

FOR FURTHER INFORMATION CONTACT: Matthew Magaletti, Sage-Grouse Lead, telephone, 775-861-6472; address, 1340 Financial Boulevard, Reno, Nevada 89502; email, mmagalet@blm.gov. Persons who use a telecommunications device for the deaf (TDD) may call the Federal Relay Service (FRS) at 1-800-877-8339 to contact Mr. Magaletti. The FRS is available 24 hours a day, 7 days a week, to leave a message or question with Mr. Magaletti. You will receive a reply during normal business hours.

SUPPLEMENTARY INFORMATION: The BLM developed the Nevada and Northeastern California Greater Sage-Grouse Approved RMP Amendment to enhance cooperation with States by improving alignment with State management plans and strategies for Greater Sage-Grouse, while continuing to conserve, enhance, and restore Greater Sage-Grouse and its habitat. The Approved RMP Amendment also addresses a legal vulnerability, which was exposed when a Federal District Court in Nevada determined that the BLM had violated the National Environmental Policy Act (NEPA) when it finalized the 2015 plans.

The BLM developed the Approved RMP Amendment in collaboration with the Governor's Offices in Nevada and California, State wildlife managers, and other concerned organizations and individuals, largely through the Western Governors Association's Sage-Grouse Task Force. Using its discretion and authority under the Federal Land Policy and Management Act (FLPMA), the BLM amends land use plans that address Greater Sage-Grouse management to improve alignment with the State of Nevada and the State of California plans and management strategies, in accordance with the BLM's multiple use and sustained yield mission.

This Approved RMP Amendment is one of six separate plan amendments developed and issued in response to the Secretary's Order (SO) 3353 (Greater Sage-Grouse Conservation and Cooperation with Western States) and in accordance with SO 3349 (American Energy Independence). The amendments refine the previous management plan adopted in 2015 and aim to strike a regulatory balance and build greater trust among neighboring interests in Western communities.

The Nevada and Northeastern California Approved RMP Amendment specifically addresses Sagebrush Focal Area designations, mitigation, adjustments to habitat management area designations to reflect new information, reversing adaptive management responses when the BLM determines that resource conditions no longer warrant those responses (in addition to addressing updates to the adaptive management strategy based on best available science), allocation exception processes, seasonal timing restrictions, modifying habitat objectives when best available science is available, and through plan clarification: Modifying lek buffers, requirements for required design features, and removal and/or modification to three livestock grazing management decisions in order to comply with 43 CFR 4160.1. The Approved RMP Amendment amends the following RMPs for BLM-administered lands in Nevada and Northeastern California:

• Alturas RMP (2008)

• Black Rock Desert-High Rock Canyon NCA RMP (2004)

• Carson City Consolidated RMP (2001)

• Eagle Lake RMP (2008)

• Elko RMP (1987)

• Ely RMP (2008)

• Shoshone-Eureka RMP (1986)

• Surprise RMP (2008)

• Tonopah RMP (1997)

• Wells RMP (1985)

• Winnemucca RMP (2015)

The planning area includes approximately 70.3 million acres of BLM, National Park Service, United States Forest Service, U.S. Bureau of Reclamation, State, local, and private lands located in Nevada and northeastern California, in 17 counties: Churchill, Elko, Eureka, Humboldt, Lander, Lassen, Lincoln, Lyon, Mineral, Modoc, Nye, Pershing, Plumas, Sierra, Storey, Washoe, and White Pine. Within the decision area, the BLM administers approximately 45.4 million acres of public lands, providing approximately 20.5 million acres of Greater Sage-Grouse habitat. Surface management decisions made in the Approved RMP Amendment apply only to lands administered by the BLM in the decision area.

The BLM prepared an Environmental Impact Statement (EIS) in accordance with the NEPA to analyze the direct, indirect, and cumulative environmental impacts associated with the proposed action and the alternatives. The ROD approves the Agency Preferred Alternative identified in the Final EIS. The BLM issued the ROD based on compliance with relevant laws, regulations, policies, and plans, including those guiding agency decisions that may have an impact on resources and their values, services, and functions. On December 10, 2018, the Notice of Action (NOA) for the Nevada and Northeastern California Greater Sage-Grouse Proposed RMP Amendment/Final EIS (83 FR 63528) was published in the Federal Register. The publication of the NOA initiated a 30-day protest period for the proposed land-use-planning decision. The protest period was later extended an additional seven days to help account for technical issues the public encountered when submitting protests during the partial Federal government shutdown in January 2019. NOA publication also initiated a simultaneous 60-day review by the Governors of Nevada and California to identify any inconsistencies with State or local plans, policies, or programs. At the close of the protest period, 14 protests had been received. These protests were resolved by the BLM Director. Individual protest response letters were sent to all protesting parties. Protest resolution is contained in the Director's Protest Summary Report, which is available online at https://www.blm.gov/programs/planning-and-nepa/public-participation/protest-resolution-reports. The Nevada Governor's review recommended that the BLM reference its Instruction Memorandum 2018-018 (Compensatory Mitigation) and the State of Nevada's Executive Order 2018-32 (order establishing use of the Nevada Greater Sage-Grouse Conservation Plan and Conservation Credit System on state and Federal lands) within the Approved RMP Amendment, relative to compensatory mitigation and allocation exception management decisions. The BLM incorporated these references into the Approved RMP Amendment. The California Governor did not respond to the BLM within the 60-day review period, therefore the proposed RMP Amendment is presumed consistent with the State of California's policies and management strategies.

Authority: 40 CFR 1506.6.

Jon K. Raby,
BLM Nevada State Director.

[FR Doc. 2019-05294 Filed 3-19-19; 8:45 am]

BILLING CODE 4310-84-P